DEPARTMENT OF ENERGY

Federal Energy Regulatory Commission

[Docket No. RP96-389-017]

Columbia Gulf Transmission Company; Notice of Negotiated Rate Filing

January 5, 2001.

Take notice that on December 29, 2000, Columbia Gulf Transmission Company (Columbia Gulf) tendered for filing to the Federal Energy Regulatory Commission (Commission) the following Amendment Agreement to a recently filed negotiated rate transaction:

Amendment Agreement to ITS-2 Service Agreement No. 69314 between Columbia Gulf Transmission Company and Amoco Energy Trading Corporation dated November 30, 2000, as Amended December 22, 2000.

Columbia Gulf states that transportation service which was scheduled to commence December 1, 2000 and terminate December 31, 2000. The parties have executed an Amendment Agreement extending the term through January 31, 2001. All other terms and provisions remain unchanged and in full force and effect.

Columbia Gulf states that copies of the filing have been served on all parties on the official service list created by the Secretary in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at hittp://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-857 Filed 1-10-01; 8:45 am]

BILLING CODE 6717-01-M